DEPARTMENT OF HEALTH AND HUMAN SERVICES

National Institutes of Health

Proposed Collection; 60-Day Comment Request; CareerTrac

AGENCY: National Institutes of Health, HHS.

ACTION: Notice.

SUMMARY: In compliance with the requirement of the Paperwork Reduction Act of 1995, to provide opportunity for public comment on proposed data collection projects, the National Institutes of Health (NIH) will publish periodic summaries of proposed projects to be submitted to the Office of Management and Budget (OMB) for review and approval.

DATES: Comments regarding this information collection are best assured of having their full effect if received within 60-days of the date of this publication.

FOR FURTHER INFORMATION CONTACT: To obtain a copy of the data collection plans and instruments or request more information on the proposed project contact: Celia Katz, Project Clearance Liaison, FIC, NIH, 16 Center Drive, Bethesda, MD 20892 or call non-toll-free number (301) 594-7857 or email your request, including your address to: celia.wolfman@nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: CareerTrac, 0925-0568, Expiration Date: 05/31/2024 REVISION, Fogarty International Center (FIC), National Institute of Environmental Health Sciences (NIEHS), National Institute of Diabetes and Digestive and Kidney Diseases (NIDDK) and National Institute of Minority Health Disparities (NIMHD), National Cancer Institute Center to Reduce Cancer Health Disparities (NCI/CRCHD), National Institutes of Health (NIH).

Need and Use of Information Collection: This purpose of this data collection system is to track, evaluate and report short and long-term outputs, outcomes and impacts of trainees involved in health research training programs-specifically tracking this for at least ten years following training by having Principal Investigators enter data after trainees have completed the program. The data collection system provides a streamlined, web-based application permitting principal investigators to record career achievement progress by trainee on a voluntary basis. FIC, NIEHS, NIDDK, NIMHD and NCI management will use this data to monitor, evaluate and adjust grants to ensure desired outcomes are achieved, comply with OMB Part requirements, respond to congressional inquiries, and as a guide to inform future strategic and management decisions regarding the grant program.

OMB approval is requested for 3 years. There are no costs to respondents other than their time. The total estimated annualized burden hours are 13,539.

Estimated Annualized Burden Hours
Type of respondent | Number of respondents | Number of responses per respondent | Average time per response (in hours) | Total annual burden hour
FIC Grantee | 90 | 20 | 40/60 | 1200
NIEHS Grantee | 1517 | 3 | 40/60 | 3034
NIMHD Grantee | 10 | 100 | 40/60 | 667
NIDDK Grantee | 170 | 4 | 40/60 | 453
NCI/CRCHD Grantee | 264 | 22 | 40/60 | 3,872
Superfund Grantee | 49 | 30 | 40/60 | 980
Trainees | 5,000 | 1 | 40/60 | 3,333
Total | 7,100 |  |  | 13,539

Jane M. Lambert,
Project Clearance Liaison, National Institute of Environmental Health Sciences, National Institutes of Health.

[FR Doc. 2024-05030 Filed 3-8-24; 8:45 am]

BILLING CODE 4140-01-P